DEPARTMENT OF THE INTERIOR

Fish and Wildlife Service

Notice of Availability, Draft Restoration Plan

AGENCY: U.S. Fish and Wildlife Service, Department of the Interior.

ACTION: Notice of availability.

SUMMARY: The U.S. Fish and Wildlife Service (Service), on behalf of the Department of the Interior (DOI), the National Oceanic and Atmospheric Administration (NOAA), and the New York State Department of Environmental Conservation (NYSDEC), as natural resource trustees, announces the release for public review of the Draft Restoration Plan (RP) for the Mattiace Petrochemical Superfund Site (Site). The Draft RP presents a preferred alternative, consisting of a single restoration project that compensates for impacts to natural resources caused by contaminant releases and remedial activities associated with the Site.

DATES: Written comments must be submitted on or before July 19, 2006.

ADDRESSES: Requests for copies of the Draft RP may be made to: U.S. Fish and Wildlife Service, New York Field Office, 3817 Luker Road, Cortland, New York 13045.

Written comments or materials regarding the Draft RP should be sent to the same address.

FOR FURTHER INFORMATION CONTACT: Ken Karwowski, Environmental Contaminants Program, U.S. Fish and Wildlife Service, New York Field Office, 3817 Luker Road, Cortland, New York 13045. Interested parties may also call 607-753-9334 or e-mail Ken_Karwowski@fws.gov for further information.

SUPPLEMENTARY INFORMATION: During the period of March 1996 through December 2000, natural resource damage settlements were achieved for the Site. NOAA and the State of New York were settling Trustees with the Department of the Interior. A variety of hazardous chemicals were discharged from the Site into Glen Cove Creek located in the Town of Oyster Bay, Nassau County New York. Chemical releases and remedial activities at the Site adversely affected natural resources such as anadromous, catadromous, euryhaline and marine finfish, shellfish and invertebrates, waterfowl, other migratory birds, and reptiles. The funds available from the settlement for restoration activities total approximately $155,000.

The Draft RP is being released in accordance with the CERCLA of 1980 as amended, commonly known as Superfund (42 U.S.C. 9601 et seq.), the Natural Resource Damage Assessment Regulations found at 43 CFR, part 11, and the National Environmental Policy Act. It is intended to describe the Trustees' proposal to restore natural resources injured at the Site and evaluate the potential impacts of the project.

The Draft RP describes a number of habitat restoration and protection alternatives and discusses the environmental consequences of each. The restoration effort with the greatest potential to restore natural resources and services that were injured by contaminants or remedial activities is preferred. Based on an evaluation of the various restoration alternatives, the preferred alternative consists of a single restoration project involving tidal marsh/wetland restoration and protection.

Interested members of the public are invited to review and comment on the Draft RP. Copies of the Draft RP are available for review at the Service's New York Field Office at 3817 Luker Road, Cortland, New York. Additionally, the Draft RP will be available for review at the following Web site link: http://nyfo.fws.gov/ec/MattiaceDRP.pdf. Written comments will be considered and addressed in the final RP/Environmental Assessment at the conclusion of the restoration planning process.

Author: The primary author of this notice is Ken Karwowski, U.S. Fish and Wildlife Service, New York Field Office, 3817 Luker Road, Cortland, New York 13045.

Authority: The authority for this action is the CERCLA of 1980 as amended, commonly known as Superfund, (42 U.S.C. 9601 et seq.), and the Natural Resource Damage Assessment Regulations found at 43 CFR, part 11.

Dated: June 5, 2006.
Kathleen Bangert,
Acting Regional Director, Region 5, U.S. Fish and Wildlife Service, U.S. Department of the Interior, DOI Authorized Official.

[FR Doc. E6-9566 Filed 6-16-06; 8:45 am]

BILLING CODE 4310-55-P